FEDERAL HOUSING FINANCE BOARD

Sunshine Act Notice Announcing an Open Meeting of the Board

Time and Date: 10 a.m., Friday, December 20, 2002.

Place: Board Room, Second Floor, Federal Housing Finance Board, 1777 F Street, NW., Washington, DC 20006.

Status: The entire meeting will be open to the public.

Matter to be Considered: • Amendments to the Federal Home Loan Bank of Atlanta Capital Plan.

• Proposed Rule: Disclosure under the Securities Act of 1933.

• Resolution Posing Questions to the 12 Federal Home Loan Banks Regarding Modernized Membership.

• Final Rule: Procedure for Conducting the Monthly Survey of Rates and Terms on Conventional One-Family, Non-Farm Mortgage Loans.

FOR FURTHER INFORMATION CONTACT: Elaine L. Baker, Secretary to the Board, (202) 408-2837.

Arnold Intrater,
General Counsel.

[FR Doc. 02-31846 Filed 12-13-02; 12:47 pm]

BILLING CODE 6725-01-P